DEPARTMENT OF TRANSPORTATION

Federal Highway Administration

Notice of Final Federal Agency Actions on Proposed Highway in Washington

AGENCY: Federal Highway Administration (FHWA), Department of Transportation (DOT).

ACTION: Notice of limitation on claims for judicial review of actions by FHWA.

SUMMARY: This notice announces actions taken by the FHWA that are final. The action relates to the issuance of a Record of Decision for the Washington State Convention Center (WSCC) Addition in the City of Seattle, King County, State of Washington.

DATES: By this notice, the FHWA is advising the public of final agency actions subject to 23 U.S.C. 139(l)(1). A claim seeking judicial review of the Federal agency actions on the highway project will be barred unless the claim is filed on or before September 17, 2018. If the Federal law that authorizes judicial review of a claim provides a time period of less than 150 days for filing such claim, then that shorter time period still applies.

FOR FURTHER INFORMATION CONTACT: For FHWA, Lindsey Handel, Urban Transportation Engineer, Federal Highway Administration, 711 S Capitol Way, Suite 501, Olympia, WA 98501-1284, telephone: (360) 753-9550, or email: Lindsey.Handel@dot.gov; or Jane Lewis, Project Coordinator, Washington State Convention Center, c/o Pine Street Group L.L.C., 1500 Fourth Ave., Suite 600, Seattle, WA 98101, telephone: (206) 340-9897, or email: jane@pinest.com.

SUPPLEMENTARY INFORMATION: Notice is hereby given that FHWA has taken final agency action(s) subject to 23 U.S.C. 139(l)(1) by issuing licenses, permits, and approvals for the subject highway project in the State of Washington. The purpose of the proposed action is two-fold: To enable the WSCC Public Facilities District to construct and operate an addition to the WSCC; and to enable the future redevelopment of the King County Convention Place Station portion of the site.

The proposed WSCC Addition would be a multi-level development of approximately 1.59 million square feet on a 3-block, 7.67-ac. site that is located northeast of the existing WSCC. This area includes five City rights-of-way that are proposed for full or subterranean vacation. The King County Site Work component of this project would occur prior to construction of the proposed WSCC Addition. Construction sequencing would enable King County Metro buses to continue to use CPS and operate in the Downtown Seattle Transit Tunnel until at least March 2019 or September 2019, depending upon the City of Seattle's permit approval process. It is proposed that the WSCC Addition be operational by 2021.

The actions by the Federal agencies, and the laws under which such actions were taken, are described in the Final Environmental Impact Statement/Record of Decision for the project approved on March 23, 2018, and in other documents in the project records. The Draft EIS, Final EIS/ROD, and other project records are available from FHWA and WSDOT at the addresses provided above and can be found at: http://www.wsccaddition.com.

This notice applies to all Federal agency decisions that are final as of the issuance date of this notice and all laws under which such actions were taken, including but not limited to:

1. General: National Environmental Policy Act (NEPA) (42 U.S.C. 4321-4351); Federal-Aid Highway Act (23 U.S.C. 109 and 23 U.S.C. 128).

2. Air: Clean Air Act (42 U.S.C. 7401-7671q).

3. Land: Section 4(f) of the Department of Transportation Act of 1966 (49 U.S.C. 303; 23 U.S.C. 138); Landscaping and Scenic Enhancement (Wildflowers) (23 U.S.C. 319).

4. Wildlife: Endangered Species Act (16 U.S.C. 1531-1544 and Section 1536); Marine Mammal Protection Act (16 U.S.C. 1361-1423h); Fish and Wildlife Coordination Act (16 U.S.C. 661-667d); Migratory Bird Treaty Act (16 U.S.C. 703-712).

5. Historic and Cultural Resources: Section 106 of the National Historic Preservation Act of 1966, as amended (16 U.S.C. 470f); Archeological Resources Protection Act of 1977 (16 U.S.C. 470aa-470mm); Archeological and Historic Preservation Act (16 U.S.C. 469-469c); Native American Grave Protection and Repatriation Act (NAGPRA) (25 U.S.C. 3001-3013).

6. Social and Economic: American Indian Religious Freedom Act (42 U.S.C. 1996); Farmland Protection Policy Act (FPPA) (7 U.S.C. 4201-4209).

7. Wetlands and Water Resources: Clean Water Act (Section 404, Section 401, Section 319) (33 U.S.C. 1251-1387); Land and Water Conservation Fund (LWCF) (16 U.S.C. 4601-4604); Safe Drinking Water Act (SDWA) (42 U.S.C. 300f-300j-26)); Rivers and Harbors Act of 1899 (33 U.S.C. 401-406); Wild and Scenic Rivers Act (16 U.S.C. 1271-1287); Emergency Wetlands Resources Act, (16 U.S.C. 3901, 3921); Wetlands Mitigation (23 U.S.C. 119(g) and 133(b)(14)); Flood Disaster Protection Act, 42 U.S.C. 4012a, 4106).

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: April 11, 2018.
Daniel M. Mathis,
Division Administrator, Olympia, Washington.

[FR Doc. 2018-08099 Filed 4-19-18; 8:45 am]

BILLING CODE 4910-RY-P